DEPARTMENT OF LABOR

Employment and Training Administration

[TA-W-61,396]

Rayolite; Division of Pac-Tec Incorporated; Newark, OH; Notice of Termination of Investigation

Pursuant to Section 221 of the Trade Act of 1974, as amended, an investigation was initiated on April 30, 2007, in response to a petition filed by a company official on behalf of workers of Rayolite, Division of Pac-Tec Incorporated, Newark, Ohio.

The petition regarding the investigation has been deemed invalid. The petitioner was not a company official but one of the dislocated workers. A petition filed by workers must be filed by three (3) individuals. Consequently, the investigation has been terminated.

Signed at Washington, DC, this 4th day of May 2007.
Linda G. Poole,
Certifying Officer, Division of Trade Adjustment Assistance.

[FR Doc. E7-9111 Filed 5-10-07; 8:45 am]

BILLING CODE 4510-FN-P